DEPARTMENT OF STATE

[Public Notice 5516]

Bureau of Democracy, Human Rights and Labor; Renewal of Charter of the Advisory Committee on Persons With Disabilities and Request for New Member Applications

SUMMARY: The Charter of the Advisory Committee on Persons with Disabilities was renewed for a second two-year term on June 26, 2006 and applications are being solicited to fill one vacant position on the Committee.

Established on June 23, 2004, and rechartered on June 26, 2006, the Advisory Committee on Persons with Disabilities serves the Secretary and the Administrator in an advisory capacity with respect to the consideration of the interests of persons with disabilities in formulation and implementation of U.S. foreign policy and foreign assistance. The Committee is established under the general authority of the Secretary and the Department of State as set forth in Title 22 of the United States Code, in particular Sections 2656 and 2651a, and in accordance with the Federal Advisory Committee Act, as amended.

The Committee is made up of the Secretary of State, the Administrator of the Agency for International Development and an Executive Director (all ex-officio members); and eight members from outside the United States government. The non-government members of the Committee represent a cross section from not-for-profit organizations, public policy organizations, academic institutions, corporations and other experts on foreign policy or development issues related to persons with disabilities. The current non-government members are: Senda Benaissa, Joni Eareckson Tada, Vail Horton, John Kemp, Albert H. Linden, Jr., Kathleen Martinez, and John Register.

One non-government position on the Committee is currently vacant, and applications are now being accepted for that position. Individuals who wish to be considered for membership may forward their resumes to Stephanie Ortoleva, Bureau of Democracy, Human Rights and Labor, U.S. Department of State, 2201 C St., NW., Room 7822, Washington, DC 20520 by overnight or express mail (not regular postal mail), or by fax to: 202-647-4434 or, in electronic form, to: ortolevas@state.gov. All letters of interest and resumes must be received by October 10, 2006.

The Secretary along with the Administrator of the Agency for International Development will appoint the new member from a list comprised of candidates who apply by the above deadline and candidates from other sources. The term of membership will be 2 years.

Dated: September 21, 2006.
Stephanie Ortoleva,
Foreign Affairs Officer and Advisory Committee Executive Director, Bureau of Democracy, Human Rights and Labor, Department of State.

[FR Doc. E6-15836 Filed 9-26-06; 8:45 am]

BILLING CODE 4710-18-P